DEPARTMENT OF COMMERCE

International Trade Administration

[A-570-198]

Temporary Steel Fencing From the People's Republic of China: Postponement of Preliminary Determinations in the Less-Than-Fair-Value Investigation

AGENCY: Enforcement and Compliance, International Trade Administration, Department of Commerce.

DATES: Applicable May 15, 2025.

FOR FURTHER INFORMATION CONTACT: Noah Wetzel, AD/CVD Operations, Enforcement and Compliance, International Trade Administration, U.S. Department of Commerce, 1401 Constitution Avenue NW, Washington, DC 20230; telephone: (202) 482-7466

SUPPLEMENTARY INFORMATION:

Background

On February 4, 2025, the U.S. Department of Commerce (Commerce) initiated the less-than-fair-value (LTFV) investigation of imports of temporary steel fencing from China.¹ Currently, the preliminary determination is due no later than June 24, 2025.

¹ See Temporary Steel Fencing from the People's Republic of China: Initiation of Less-Than-Fair-Value Investigation, 90 FR 9315 (February 11, 2025) (Initiation Notice).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On April 29, 2025, the petitioner ² submitted a timely request that Commerce postpone the preliminary determination in the LTFV investigation.³ The petitioner stated that it requests the postponement to provide Commerce with the time “to ensure the development of a complete and accurate record.” ⁴

² The petitioner is ZND US Inc.

³ See Petitioner's Letter, “Petitioner's Request to Postpone Commerce's Preliminary Determination,” dated April 29, 2025.

⁴ Id.

For the reason stated above and because there are no compelling reasons to deny the request, Commerce, in accordance with section 733(c)(1)(A) of the Act, is postponing the deadline for the preliminary determination by 50 days (i.e., 190 days after the date on which this investigation was initiated). As a result, Commerce will issue its preliminary determination no later than August 13, 2025. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: May 9, 2025.
Abdelali Elouaradia,
Deputy Assistant Secretary for Enforcement and Compliance.

[FR Doc. 2025-08604 Filed 5-14-25; 8:45 am]

BILLING CODE 3510-DS-P